DEPARTMENT OF ENERGY

Federal Energy Regulatory Commission

Combined Notice of Filings #2

Take notice that the Commission received the following electric rate filings:

Docket Numbers: ER16-959-001.

Applicants: New York Independent System Operator, Inc.

Description: Compliance filing: Compliance notice re: effective date for UDR tariff revisions to be effective 2/17/2017.

Filed Date: 2/3/17.

Accession Number: 20170203-5097

Comments Due: 5 p.m. ET 2/24/17.

Docket Numbers: ER17-703-001.

Applicants: PacifiCorp.

Description: Tariff Amendment: BPA NITSA (Yakama) Rev 7.1 to be effective 12/1/2016.

Filed Date: 2/3/17.

Accession Number: 20170203-5169.

Comments Due: 5 p.m. ET 2/24/17.

Docket Numbers: ER17-925-001.

Applicants: ISO New England Inc., New England Power Pool Participants Committee.

Description: Tariff Amendment: Part 2 of Two-Part Filing to Remove Active Demand Resource Types to be effective 6/1/2018.

Filed Date: 2/3/17.

Accession Number: 20170203-5134.

Comments Due: 5 p.m. ET 2/24/17.

Docket Numbers: ER17-927-000.

Applicants: Wisconsin Public Service Corporation.

Description: § 205(d) Rate Filing: Assignment—Ancillary Services AGMT Combined Locks to Appleton Coated to be effective 2/4/2017.

Filed Date: 2/3/17.

Accession Number: 20170203-5100.

Comments Due: 5 p.m. ET 2/24/17.

Docket Numbers: ER17-928-000.

Applicants: Southern California Edison Company.

Description: § 205(d) Rate Filing: GIA & DSA AVS-Phase 2 Project SA Nos. 943 & 944 to be effective 2/4/2017.

Filed Date: 2/3/17.

Accession Number: 20170203-5107.

Comments Due: 5 p.m. ET 2/24/17.

Docket Numbers: ER17-929-000.

Applicants: Southern California Edison Company.

Description: Tariff Cancellation: Notice of Cancellation Distribution Service Agreement Pristine Sun Fund 9, LL to be effective 4/5/2017.

Filed Date: 2/3/17.

Accession Number: 20170203-5130.

Comments Due: 5 p.m. ET 2/24/17.

Docket Numbers: ER17-930-000.

Applicants: Guttman Energy Inc.

Description: Notice of Cancellation of Market-Based Rate Tariff of Guttman Energy Inc.

Filed Date: 2/2/17.

Accession Number: 20170202-5262.

Comments Due: 5 p.m. ET 2/23/17.

Docket Numbers: ER17-931-000

Applicants: PacifiCorp.

Description: § 205(d) Rate Filing: BPA General Transfer Agreement (West) Rev 7 to be effective 4/5/2017.

Filed Date: 2/3/17.

Accession Number: 20170203-5174.

Comments Due: 5 p.m. ET 2/24/17.

Docket Numbers: ER17-932-000.

Applicants: Algonquin Tinker Gen Co.

Description: § 205(d) Rate Filing: Notice of Succession to be effective 2/3/2017.

Filed Date: 2/3/17.

Accession Number: 20170203-5180.

Comments Due: 5 p.m. ET 2/24/17.

Docket Numbers: ER17-933-000.

Applicants: Exelon Generation Company, LLC.

Description: Request for Additional Cost Recovery and Request for Limited Tariff Waiver of Exelon Generation Company, LLC.

Filed Date: 2/3/17.

Accession Number: 20170203-5192.

Comments Due: 5 p.m. ET 2/24/17.

Docket Numbers: ER17-934-000.

Applicants: PJM Interconnection, L.L.C., Midcontinent Independent System Operator, Inc.

Description: § 205(d) Rate Filing: Revisions to PJM MISO JOA RE Change CTS Effective Date from 3/1/17 to 10/3/17 to be effective 10/3/2017.

Filed Date: 2/3/17.

Accession Number: 20170203-5197.

Comments Due: 5 p.m. ET 2/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2017.
Kimberly D. Bose,
Secretary.

[FR Doc. 2017-02953 Filed 2-13-17; 8:45 am]

BILLING CODE 6717-01-P